DEPARTMENT OF AGRICULTURE

Agricultural Marketing Service

[Docket Number FV-06-302]

United States Standards for Grades of Sweet Cherries

AGENCY: Agricultural Marketing Service, USDA.

ACTION: Notice.

SUMMARY: The Agricultural Marketing Service (AMS), prior to undertaking research and other work associated with revising official grade standards, is soliciting comments on the possible revisions of the United States Standards for Grades of Sweet Cherries. At a 2003 meeting with the Fruit and Vegetable Industry Advisory Committee, AMS was asked to review the Fresh Fruit and Vegetable grade standards for usefulness in serving the industry. As a result AMS has identified row sizes for possible inclusion into the sweet cherries grade standards. Additionally, AMS is seeking comments regarding any other revisions that may be necessary to better serve the industry.

DATES: Comments must be received by March 27, 2006.

ADDRESSES: Interested persons are invited to submit written comments to the Standardization Section, Fresh Products Branch, Fruit and Vegetable Programs, Agricultural Marketing Service, U.S. Department of Agriculture, 1400 Independence Ave. SW., Room 1661 South Building, Stop 0240, Washington, DC 20250-0240; Fax (202) 720-8871, E-mail FPB.DocketClerk@usda.gov. Comments should make reference to the dates and page number of this issue of the Federal Register and will be made available for public inspection in the above office during regular business hours. The United States Standards for Grades of Sweet Cherries are available either at the above address or by accessing the AMS, Fresh Products Branch Web site at: http://www.ams.usda.gov/standards/stanfrfv.htm.

FOR FURTHER INFORMATION CONTACT: Cheri L. Emery, at the above address or call (202) 720-2185; E-mail Cheri.Emery@usda.gov.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities. AMS makes copies of official standards available upon request. The United States Standards for Grades of Fruits and Vegetables not connected with Federal Marketing Orders or U.S. Import Requirements no longer appear in the Code of Federal Regulations, but are maintained by USDA/AMS/Fruit and Vegetable Programs.

AMS is proposing to revise the voluntary United States Standards for Grades of Sweet Cherries using procedures that appear in Part 36, Title 7 of the Code of Federal Regulations (7 CFR part 36). These standards were published on May 7, 1971.

Background

At a 2003 meeting with the Fruit and Vegetable Industry Advisory Committee, AMS was asked to review the Fresh Fruit and Vegetable grade standards for usefulness in serving the industry. AMS has identified the United States Standards for Grades of Sweet Cherries for possible revision. AMS is considering incorporating a standard row size into the standards. This row size would correspond with current row sizes being used by the industry. However, prior to undertaking detailed work to develop the proposed revision to the standards, AMS is soliciting comments on the proposed revision and any other comments on the United States Standards for Grades of Sweet Cherries to better serve the industry.

This notice provides for a 60-day comment period for interested parties to comment on whether any changes are necessary to the standards. Should AMS conclude that there is a need for any revisions of the standards, the proposed revisions will be published in the Federal Register with a request for comments in accordance with 7 CFR part 36.

Authority: 7 U.S.C. 1621-1627.

Dated: January 19, 2006.
Lloyd C. Day,
Administrator, Agricultural Marketing Service.

[FR Doc. E6-862 Filed 1-24-06; 8:45 am]

BILLING CODE 3410-02-P